NATIONAL AREONAUTICS AND SPACE ADMINISTRATION

[Notice 00-129]

NASA Advisory Council (NAC), Earth Systems Science and Applications Advisory Committee, Technology Subcommittee; Meeting

AGENCY: National Aeronautics and Space Administration.

ACTION: Notice of meeting.

SUMMARY: In accordance with the Federal Advisory Committee Act, Pub. L. 92-463, as amended, the National Aeronautics and Space Administration announces a meeting of a NASA Advisory Council, Earth Systems Science and Applications Advisory Committee, Technology Subcommittee.

DATES: Tuesday, November 14, 2000, 8:30 a.m. to 5:30 p.m.; and Wednesday, November 15, 2000, 8:30 a.m. to 3 p.m.

ADDRESS: NASA Headquarters, 300 E Street SW, MIC 3A, Washington, DC 20546

FOR FURTHER INFORMATION CONTACT: Mr. Granville Paules, National Aeronautics and Space Administration, Washington, DC 20546, 202/358-0706.

SUPPLEMENTARY INFORMATION: The meeting will be open to the public up to the seating capacity of the room. The agenda for the meeting is as follows:

—Welcome/Opening Remarks

—Joint Session with Information Systems Subcommittee

—Introductions and Joint Objectives

—Overview of Information Technology (IT) within the ESE Technology Program

—Infusion of IT into ESE Data/Information Systems

—IT Technology Development Plans

—Near Term Roadmaps and AIST Projects

—ESE Vision Era activity

—Multi-Enterprise IT development programs—ESE Relevance

—Intelligent Systems Program

—SBIR, IT Emphasis in Next Call

—Former UPN 632— Recent IT Selections

—Software Framework requirements of HPCC/ESS Cooperative Agreement Notice

—Joint Committee discussions—Chairpersons

—General Critique of Joint Meeting and Action Assignments

—Laser/Lidar Independent Review report summary

—ESE Vision FY 2001 Plan

—Overall Technology Roadmap Update

—NMP EO-1 Validation Plan and Post-Validation Opportunities

—Instrument Incubator Program focused solicitation

—Subcommittee Wrap-up and Recommendations

It is imperative that the meeting be held on these dates to accommodate the scheduling priorities of the key participants. Visitors will be requested to sign a visitor's register.

Dated: October 19, 2000.
Beth M. McCormick,
Advisory Committee Management Officer, National Aeronautics and Space Administration.

[FR Doc. 00-27314 Filed 10-24-00; 8:45 am]

BILLING CODE 7510-01-U